DEPARTMENT OF COMMERCE

International Trade Administration

The U.S. Travel & Tourism Advisory Board: Information-Gathering Session of the U.S. Travel and Tourism Advisory Board

AGENCY: International Trade Administration, U.S. Department of Commerce.

ACTION: Notice of a public information-gathering session.

SUMMARY: The U.S. Travel and Tourism Advisory Board (“Board”) will convene a public information-gathering session in Las Vegas, where the members will hear presentations made by various government officials on issues related to the travel & tourism sector. The agenda for the event includes updates regarding implementation of the Travel Promotion Act, the Administration's travel and tourism initiatives, implementation of the National Export Initiative, and the programs and activities of the Departments of Homeland Security, State, and Transportation impacting the travel and tourism sector. During this information-gathering session, the Board will also receive an update on the work of the Board's subcommittees on Marketing, Outreach & Coordination; Travel Facilitation; Research; and Advocacy. The Board will not deliberate on any advice or recommendations during this session. This event is strictly an information-gathering session. The Board was re-chartered in September 2009 to advise the Secretary of Commerce on matters relating to the U.S. travel and tourism industries.

Date: October 26, 2010.

Time: 9 a.m. (PT).

ADDRESSES: Caesar's Palace Las Vegas Hotel & Casino, 3570 Las Vegas Boulevard South, Las Vegas, NV 89109. All non-government attendees must pre-register because of hotel security. This program will be physically accessible to people with disabilities. Seating is limited and will be available on a first come, first served basis. Requests for sign language interpretation, other auxiliary aids, or pre-registration, should be submitted no later than October 19, 2010, to Jennifer Pilat, the U.S. Travel and Tourism Advisory Board, Room 4043, 1401 Constitution Avenue, NW., Washington, DC, 20230, telephone 202-482-4501, jennifer.pilat@trade.gov. Last minute requests will be accepted, but may be impossible to fill.

FOR FURTHER INFORMATION CONTACT: Jennifer Pilat, the U.S. Travel and Tourism Advisory Board, Room 4043, 1401 Constitution Avenue, NW., Washington, DC 20230, telephone: 202-482-4501, e-mail: jennifer.pilat@trade.gov.

SUPPLEMENTARY INFORMATION: No time will be available for oral comments from members of the public attending the session. Any member of the public may submit pertinent written comments to be considered as part of the Board's information-gathering at any time before and after the session.

Comments may be submitted to Jennifer Pilat at the contact information indicated above. To ensure transmission to the Board prior to the session, comments must be received no later than 5 p.m. (ET) on October 18, 2010. Comments received after that date will be distributed to the members but may not be transmitted to the Board prior to the session.

Dated: October 13, 2010
Jennifer Pilat,
Executive Secretary, U.S. Travel and Tourism Advisory Board.

[FR Doc. 2010-26207 Filed 10-13-10; 4:15 pm]

BILLING CODE 3510-DR-P